DEPARTMENT OF COMMERCE

International Trade Administration

[A-533-824]

Notice of Preliminary Determination of Sales at Less Than Fair Value and Postponement of Final Determination: Polyethylene Terephthalate Film, Sheet, and Strip From India

Correction

In notice document 01-31515 beginning on page 65893 in the issue of Friday, December 21, 2001, make the following correction:

On page 65899, in column one, “Dated: December 15, 2001” should read “Dated: December 13, 2001”.

[FR Doc. C1-31515 Filed 12-31-01; 8:45 am]

BILLING CODE 1505-01-D

FEDERAL TRADE COMMISSION

16 CFR Part 4

Rules of Practice

Correction

In final rule document 01-30441 beginning on page 64142 in the issue of Wednesday, December 12, 2001 make the following correction:

§ 4.13 [Corrected]

On page 64144, in the first column, in § 4.13, in amendatory instruction 7, paragraph c. should read, “c. Section 4.13 (d)-(f), (h), (j), (k).”.

[FR Doc. C1-30441 Filed 12-31-01; 8:45 am]

BILLING CODE 1505-01-D

DEPARTMENT OF TRANSPORTATION

Federal Aviation Administration

14 CFR Part 39

[Docket No. 2001-NM-206-AD; Amendment 39-12544; AD 2001-24-27]

RIN 2120-AA64

Airworthiness Directives; McDonnell Douglas Model DC-9-10, -20, -30, -40, and -50 Series Airplanes; Model DC-9-81, -82, -83, and -87 Series Airplanes; Model MD-88 Airplanes; and C-9 Airplanes

Correction

In final rule document 01-30203 beginning on page 64109 in the issue of Wednesday, December 12, 2001, make the following corrections:

§ 39.13 [Corrected]

1. On page 64111, in the second column, under heading Restatement of Requirements of AD 96-02-05:

a. In paragraph (a):

(1) In the second line, “A27-325R02” should read, “A27-325”.

(2) In the third line from the bottom, “A27-325R02” should read, “A27-325”.

b. In paragraph (a)(2), in the seventh line, “A27-325R02” should read, “A27-325”.

2. On page 64111, in the third column, under heading Restatement of Requirements of AD 96-02-05:

a. In paragraph (b):

(1) In the second line “A27-325R02” should read, “A27-325”.

(2) In the third line from the bottom, “A27-325R02” should read, “A27-325”.

b. In paragraph (b)(2), in the seventh line, “A27-325R02” should read, “A27-325”.

3. On page 64111, in the third column, under heading New Actions Required by This AD, in Note 2:, in the third line, DC9-27-325R02” should read, “DC9-27-325”.

4. On page 64112, in the first column under heading Incorporation by Reference:

a. In paragraph (f):

(1) In the third line, “A27-325R02” should read, “A27-325”.

(2) In the fifth line, “A27-325R” should read, “A27-325”.

b. In paragraph (f)(2), in the third line, “A27-325R02” should read, “A27-325”.

c. In paragraph (f)(3), in the third line, “A27-325R02” should read, “A27-325”.

[FR Doc. C1-30203 Filed 12-31-01; 8:45 am]

BILLING CODE 1505-01-D

DEPARTMENT OF TRANSPORTATION

Federal Aviation Administration

14 CFR Part 93

[Docket No. FAA-2001-11128]

RIN 2120-AG34

Noise Limitations for Aircraft Operations in the Vicinity of Grand Canyon National Park

Correction

In proposed rule document 01-30836 appearing on page 64778 in the issue of Friday, December 14, 2001, make the following corrections:

1. On page 64778, in the first column, under the heading SUMMARY:, in the 12th line “fairies” should read “fairness”.

2. On the same page, in the second column, under the heading FOR FURTHER INFORMATION CONTACT:, in the ninth line “thomas.1.connor@faa.gov” should read “thomas.l.connor@faa.gov”.

3. On the same page, in the same column,in the first paragraph, in the third line under the heading Background “Nose” should read “Noise”.

4. On the same page, in the same column, in the second paragraph, in the eighth line “the” should read “The”.

[FR Doc. C1-30836 Filed 12-31-01; 8:45 am]

BILLING CODE 1505-01-D